DEPARTMENT OF ENERGY

Federal Energy Regulatory Commission

[Docket No. RP00-374-000]

Columbia Gas Transmission Corporation; Notice of Proposed Changes in FERC Gas Tariff

July 7, 2000.

Take notice that on June 30, 2000, Columbia Gas Transmission Corporation (Columbia), tendered for filing as part of its FERC Gas Tariff, Second Revised Volume No. 1, the following revised tariff sheets with a proposed effective date of December 1, 2000:

Third Revised Sheet No. 275

Second Revised Sheet No. 277

Eighth Revised Sheet No. 281

Eighth Revised Sheet No. 282

Fifth Revised Sheet No. 283

Columbia states it is filing tariff sheets to revise its existing capacity auction provisions and that such revised provisions meet the principles set forth in the Commission's Order Nos. 637 and 637-A. Columbia is revising General Terms and Conditions (GTC), Section 4, which contain the procedures of Columbia's current “Auctions of Available Firm Service” involving the awarding of existing firm capacity and the exercise of the ROFR on Columbia, to reflect these changes. Columbia is also revising Section 3, to be consistent with the field provision of GTC Section 4(e) and the current provision of GTC Section 14.5(b).

Columbia states that copies of its filing have been mailed to all firm customers, interruptible customers, and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17710 Filed 7-12-00; 8:45 am]

BILLING CODE 6717-01-M